ENVIRONMENTAL PROTECTION AGENCY

[EPA-HQ-TRI-2017-0057; FRL-9961-07]

Agency Information Collection Activities; Proposed Renewal of an Existing Collection; Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “Toxic Chemical Release Reporting and Renewals of Form R, Form A, and Form R Schedule 1” and identified by EPA ICR No. 1363.26 and OMB Control No. 2025-0009, represents the renewal of an existing ICR that is scheduled to expire on November 30, 2017. Before submitting the ICR to OMB for review and approval, EPA is soliciting comments on specific aspects of the proposed information collection that is summarized in this document. The ICR and accompanying material are available in the docket for public review and comment.

DATES: Comments must be received on or before July 31, 2017.

ADDRESSES: Submit your comments, identified by docket identification (ID) number EPA-HQ-TRI-2017-0057, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Cassandra Vail, Toxics Release Inventory Program Division (7410M), Office of Pollution Prevention and Toxics, Environmental Protection Agency, 1200 Pennsylvania Ave. NW., Washington, DC 20460-0001; telephone number: (202) 566-0753; email address: vail.cassandra@epa.gov.

For general information contact: The Emergency Planning and Community Right-to-Know Act (EPCRA) Hotline; telephone numbers: Toll free at (800) 424-9346 (select menu option 3) or (703) 412-9810 in the Washington, DC area and international; or toll free, TDD (800) 553-7672; or go to http://www.epa.gov/superfund/contacts/infocenter.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Toxic Chemical Release Reporting and Renewals of Form R, Form A, and Form R Schedule 1.

ICR number: EPA ICR No. 1363.26.

OMB control number: OMB Control No. 2025-0009.

ICR status: This ICR is currently scheduled to expire on November 30, 2017. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: Pursuant to section 313 of the Emergency Planning and Community Right-to-Know Act (EPCRA), certain facilities that manufacture, process, or otherwise use specified toxic chemicals in amounts above reporting threshold levels must submit annually to EPA and to designated State or Tribal officials toxic chemical release forms containing information specified by EPA. 42 U.S.C. 11023. In addition, pursuant to section 6607 of the Pollution Prevention Act (PPA), facilities reporting under section 313 of EPCRA must also report pollution prevention and waste management data, including recycling information, for such chemicals; see 42 U.S.C. 13106. EPA compiles and stores these reports in a publicly accessible database known as the Toxics Release Inventory (TRI). Regulations at 40 CFR part 372, subpart B, require facilities that meet all of the following criteria to report:

1. The facility has 10 or more fulltime employee equivalents (i.e., a total of 20,000 hours worked per year or greater; see 40 CFR 372.3); and

2. The facility is included in a North American Industry Classification System (NAICS) Code listed at 40 CFR 372.23 or under Executive Order 13693, federal facilities regardless of their industry classification; and

3. The facility manufactures (defined to include importing), processes, or otherwise uses any EPCRA section 313 (TRI) chemical in quantities greater than the established thresholds for the specific chemical in the course of a calendar year.

Facilities that meet these criteria must file a Form R report or, in some cases, may submit a Form A Certification Statement, for each listed toxic chemical for which the criteria are met. As specified in EPCRA section 313(a), facilities must submit reports for any calendar year on or before July 1 of the following year. For example, reporting year 2015 data should have been submitted and certified on or before July 1, 2016.

EPA maintains the list of toxic chemicals subject to TRI reporting at 40 CFR 372.65 and the Agency publishes this list each year as Table II in the Toxics Release Inventory Reporting Forms and Instructions. The current TRI chemical list contains 595 chemicals and 31 chemical categories. Environmental agencies, industry, and the public use TRI data for a wide variety of purposes. EPA program offices use TRI data, along with other data, to help establish programmatic priorities, evaluate potential hazards to human health and the natural environment, and undertake appropriate regulatory and/or enforcement activities. Environmental and public interest groups use the data to better understand toxic chemical releases at the community level and to work with industry, government agencies, and others to promote reductions in toxic chemical releases. Industrial facilities use the TRI data to evaluate the efficiency of their production processes and to help track and communicate their progress in achieving pollution prevention goals.

The TRI data are unique in providing a multi-media (air, water, and land) picture of toxic chemical releases, transfers, and other waste management activities by covered facilities on a yearly basis. While other environmental media programs provide some toxic chemical data and related permit data, TRI data are unique with regard to the types of chemicals and industry sectors covered as well as the frequency of reporting. Facilities subject to TRI reporting must submit reports for each calendar year to EPA and the State or Indian Country in which they are located by July 1 of the following year.

Respondents may claim trade secrecy for a chemical's identity as described in EPCRA Section 322 and its implementing regulations in 40 CFR part 350. EPA will disclose information covered by a claim of trade secrecy only to the extent permitted by and in accordance with the procedures in 40 CFR part 350 and 40 CFR part 2).

Burden statement: The annual public reporting and recordkeeping burden for this collection of information is estimated to range between 22.0 hours and 35.7 hours per response, depending upon the nature of the response. Burden is defined in 5 CFR 1320.3(b).

The ICR, which is available in the docket along with other related materials, provides a detailed explanation of the collection activities and the burden estimate that is only briefly summarized here:

Respondents/Affected Entities: Entities potentially affected by this ICR are facilities that submit annual reports under section 313 of EPCRA and section 6607 of PPA.

Estimated total number of potential respondents: 21,856.

Frequency of response: Annual.

Estimated total average number of responses for each respondent: 3.5.

Estimated total annual burden hours: 3,597,275 hours.

Estimated total annual costs: $199,217,090. This includes an estimated burden cost of $199,217,090 and an estimated cost of $0 for capital investment or maintenance and operational costs.

III. Are there changes in the estimates from the last approval?

There is an increase of 41,277 hours (from 3,555,998 hours to 3,597,275 hours) in the total estimated respondent burden compared with that identified in the ICR currently approved by OMB. This increase reflects a slight increase in the number of facilities reporting to TRI. This change is an adjustment.

IV. What changes does this ICR propose?

OMB approved the ICR for Form R, the Form A Certification Statement, and Form R Schedule 1 on November 24, 2014, with the expiration date of November 30, 2017. EPA proposes making several changes to the TRI reporting forms and associated instructions. These revisions are aimed at improving the user experience by clarifying the intent of questions.

1. Provide Bureau of Indian Affairs (BIA) code as a separate element on the form. (Part I: Section 4.1)

2. When reporting a metal compound, indicate whether report also includes the elemental metal. (Part II: Section 1)

3. Add sub-categories of uses. (Part II: Sections 3.2a, b and Sections 3.3a, b, c)

4. Add finer gradation for range codes used for Maximum Amount of the EPCRA Section 313 Chemical On-site at Any Time during the Calendar Year. (Part II: Section 4)

5. Add management codes for the transfer of waste to POTWs. (Part II: Section 6.1)

6. Separate 8.8 into separate boxes for quantities associated with (1) remedial actions, (2) catastrophic events, and (3) one-time events not associated with production processes. (Part II: Section 8.8)

7. When reporting an air release of chromium, indicate whether the release contains Chromium-VI (hexavalent chromium). (Part II: Section 9.1)

8. Add a free text field for each chemical listed on Form A. (Part II: Section 3)

9. Add a free text field for facility-level info on Form A. (Part III: Section 1.1)

V. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the technical person listed under FOR FURTHER INFORMATION CONTACT.

Authority: 44 U.S.C. 3501 et seq.

Dated: April 14, 2017.
Wendy C. Hamnett,
Acting Assistant Administrator, Office of Chemical Safety and Pollution Prevention.

[FR Doc. 2017-11086 Filed 5-26-17; 8:45 am]

BILLING CODE 6560-50-P